INTERNATIONAL TRADE COMMISSION

[Investigation No. 337-TA-1034]

Certain Flash Memory Devices and Components Thereof; Notice of Commission Determination Not To Review and Initial Determination Granting a Joint Motion To Terminate the Investigation in Its Entirety Based Upon Settlement; Termination of the Investigation

AGENCY: U.S. International Trade Commission.

ACTION: Notice.

SUMMARY: Notice is hereby given that the U.S. International Trade Commission has determined not to review the presiding administrative law judge's (“ALJ”) initial determination (“ID”) (Order No. 22) granting a joint motion to terminate the investigation in its entirety based upon settlement.

FOR FURTHER INFORMATION CONTACT: Panyin A Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Inv. No. 337-TA-1034 on January 11, 2017, based on a complaint filed by Memory Technologies, LLC of Las Vegas, Nevada (“Memory Tech.”). 82 FR 3359-60 (Jan. 11, 2017). The complaint alleges violations of section 337 of the Tariff Act of 1930 (19 U.S.C. 1337) in the importation into the United States, the sale for importation, and the sale within the United States after importation of certain flash memory devices and components thereof that infringe one or more claims of U.S. Patent No. RE45,542; U.S. Patent No. RE45,486; U.S. Patent No. 7,565,469; U.S. Patent No. 9,063,850, and U.S. Patent No. 8,307,180. The notice of investigation named the following respondents: SanDisk LLC of Milpitas, California; Western Digital Corporation of Irvine, California; Western Digital Technologies, Inc. of Milpitas, California; SanDisk Limited of Yokohama, Japan; SanDisk Storage Malaysia Sdn. Bhd. of Perai, Malaysia; and SanDisk SemiConductor (Shanghai) Co., Ltd., of Shanghai, China (collectively “SanDisk”). The Office of Unfair Import Investigations is participating in the investigation.

On June 22, 2017, Memory Tech. and SanDisk filed a joint motion to terminate the investigation in its entirety based upon settlement. On June 27, 2017, the Commission investigative attorney filed a response in support of the motion.

On July 13, 2017, the ALJ issued the subject ID, granting the joint motion to terminate the investigation in its entirety based upon settlement. The ALJ found that the joint motion complied with the requirements of Commission Rule 210.21(b)(1) (19 CFR 210.21(b)(1)) and that the parties provided confidential and public copies of the settlement agreement. The ALJ further found that terminating the investigation would not be contrary to the public interest.

The Commission has determined not to review the ID.

The authority for the Commission's determination is contained in section 337 of the Tariff Act of 1930, as amended (19 U.S.C. 1337), and in Part 210 of the Commission's Rules of Practice and Procedure (19 CFR part 210).

By order of the Commission.
Issued: July 27, 2017.
Lisa R. Barton,
Secretary to the Commission.

[FR Doc. 2017-16216 Filed 8-1-17; 8:45 am]

BILLING CODE 7020-02-P